DEPARTMENT OF COMMERCE

International Trade Administration

[A-122-822]

Certain Corrosion-Resistant Carbon Steel Flat Products from Canada: Final Results of Antidumping Duty Administrative Review

AGENCY: Import Administration, International Trade Administration, Department of Commerce.

SUMMARY: On September 11, 2006, the Department of Commerce (the Department) published the preliminary results of its administrative review of the antidumping duty order on certain corrosion-resistant carbon steel flat products (CORE) from Canada. See Certain Corrosion-Resistant Carbon Steel Flat Products from Canada: Preliminary Results of Antidumping Duty Administrative Review, 71 FR 53363 (September 11, 2006) (Preliminary Results). The review covers shipments of this merchandise to the United States for the period August 1, 2004 through July 31, 2005, made by Dofasco Inc., Sorevco Inc. (Sorevco), and Do Sol Galva Ltd. (collectively Dofasco), and by Stelco Inc.

We gave interested parties an opportunity to comment on our Preliminary Results. Based on our analysis of comments, we have made changes in the margin calculations. Therefore, the final results differ from the preliminary results. For the final dumping margins, see the “Final Results of Review” section below.

EFFECTIVE DATE: March 19, 2007.

FOR FURTHER INFORMATION CONTACT: Douglas Kirby or Joshua Reitze, AD/CVD Operations, Office 6, Import Administration, International Trade Administration, U.S. Department of Commerce, 14th Street and Constitution Avenue, NW., Washington, DC 20230; telephone: (202) 482-3782 or (202) 482-0666, respectively.

SUPPLEMENTARY INFORMATION:

Background

On September 11, 2006, the Department published its preliminary results in the antidumping duty administrative review of CORE from Canada. See Preliminary Results. The period of review (POR) is August 1, 2004 through July 31, 2005. This review covers the following Canadian producers of subject merchandise: Dofasco Inc., Sorevco Inc., and Do Sol Galva Ltd., which have been collapsed into a single entity (collectively, Dofasco) for purposes of calculating a dumping margin, and Stelco Inc. (Stelco). See the “Affiliation and Collapsing” section of the Preliminary Results, 71 FR at 53365. The petitioner is U.S. Steel Corporation (petitioner). We gave interested parties an opportunity to comment on our Preliminary Results. Petitioner submitted case briefs for Dofasco and Stelco on October 11, 2006. Dofasco submitted a rebuttal brief on October 16, 2006. None of the parties requested a hearing.

Scope of the Antidumping Duty Order

The product covered by this antidumping duty order is certain corrosion-resistant steel, and includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090. Although the HTSUS subheadings are provided for convenience and customs purposes, the written description of the merchandise is dispositive.

Included in this order are corrosion-resistant flat-rolled products of non- rectangular cross-section where such cross-section is achieved subsequent to the rolling process (i.e., products which have been “worked after rolling”) -- for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat- rolled products, which are three-layered corrosion-resistant carbon steel flat-rolled products less than 4.75 millimeters in composite thickness that consist of a carbon steel flat-rolled product clad on both sides with stainless steel in a 20%-60%-20% ratio.

Analysis of Comments Received

The issues raised in the case and rebuttal briefs submitted by parties to this administrative review are addressed in the Issues and Decision Memorandum for the Final Results of the Administrative Review of the Antidumping Duty Order on Certain Corrosion-Resistant Carbon Steel Flat Products from Canada, from Stephen J. Claeys to David M. Spooner, dated March 12, 2007 (Issues and Decision Memorandum), which is hereby adopted by this notice. The Issues and Decisions Memorandum is on file in the Central Records Unit (CRU), room B-099 of the Department of Commerce main building and can be accessed directly at http://ia.ita.doc.gov/frn. The paper copy and electronic version of the Issues and Decisions Memorandum are identical in content. A list of the issues addressed in the Issues and Decisions Memorandum is appended to this notice.

Changes Since the Preliminary Results

Based on our analysis of comments received, we have made minor adjustments in the methodology that was used in the Preliminary Results and corrected certain calculation errors. The adjustments are discussed in detail in the Issues and Decisions Memorandum.

Final Results of Review

As a result of this review, we determine that the following weighted-average dumping margins exist for the period August 1, 2004 through July 31, 2005:

Manufacturer/Exporter | Weighted Average Margin
Dofasco Inc., Sorevco, Inc., Do Sol Galva Ltd. | 5.25 percent
Stelco Inc. | 1.51 percent

Assessment

The Department will determine, and U.S. Customs and Border Protection (CBP) shall assess, antidumping duties on all appropriate entries, pursuant to section 751(a)(1)(B) of the Act, and 19 CFR 351.212(b). The Department calculated importer- specific duty assessment rates (or, when the importer was unknown by the respondent, customer-specific duty assessment rates) on the basis of the ratio of the total amount of antidumping duties calculated for the examined sales observations involving each importer to the total entered value of the examined sales observations for that importer. Pursuant to 19 CFR 356.8(a), the Department intends to issue assessment instructions to CBP 41 days after the date of publication of these final results of review.

The Department clarified its “automatic assessment” regulation on May 6, 2003. This clarification will apply to entries of subject merchandise during the POR produced by companies included in these final results of review for which the reviewed companies did not know their merchandise was destined for the United States. In such instances, we will instruct CBP to liquidate unreviewed entries at the “All Others” rate if there is no rate for the intermediate company(ies) involved in the transaction. For a discussion of this clarification, see Notice of Policy Concerning Assessment of Antidumping Duties, 68 FR 23954 (May 6, 2003).

Cash Deposits

Pursuant to section 751(d)(2) of the Act and 19 CFR 351.222(i)(2)(i), the Department revoked this order and notified U.S. Customs and Border Protection to discontinue suspension of liquidation and collection of cash deposits on entries of the subject merchandise entered or withdrawn from warehouse on or after December 15, 2005, the effective date of revocation of this AD order. See Revocation Pursuant to Second Five-year (“Sunset”) Reviews of Antidumping and Countervailing Duty Orders: Certain Corrosion-Resistant Carbon Steel Flat Products from Australia, Canada, Japan, and France, 72 FR 7010 (February 14, 2007).

Certificate on Reimbursement

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

Notification Regarding Administrative Protective Orders.

This notice is the only reminder to parties subject to the administrative protective order (APO) of their responsibility concerning the return or destruction of proprietary information disclosed under the APO in accordance with 19 CFR 351.305. Timely written notification of the return or destruction of APO materials or conversion to judicial protective order is hereby requested. Failure to comply with the regulations and the terms of an APO is a sanctionable violation.

We are issuing and publishing these results and this notice in accordance with sections 751(a)(1) and 777(i)(1) of the Tariff Act of 1930.

Dated: March 12, 2007.
David M. Spooner,
Assistant Secretary for Import Administration.

Appendix

List of Issues

1. Treatment of Dofasco's bad debt allowance

2. Application of the major input rule to Dofasco's purchase of iron ore fluxed pellets from Quebec Cartier Mining (QCM)

3. Treatment of Dofasco's indirect selling expenses incurred in Canada

4. Treatment of Dofasco's inventory carrying costs incurred in Canada

5. Application of the arm's length test

6. Treatment of Dofasco's home market indirect selling expenses in the calculation of the net price used in the sales below cost test

7. Calculation of credit expense for certain of Stelco's U.S. sales

[FR Doc. E7-4942 Filed 3-16-07; 8:45 am]

BILLING CODE 3510-DS-S